DEPARTMENT OF VETERANS AFFAIRS

[OMB Control No. 2900-0208]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before March 2, 2006.

FOR FURTHER INFORMATION OR A COPY OF THE SUBMISSION CONTACT: Denise McLamb, Records Management Service (005E3), Department of Veterans Affairs, 810 Vermont Avenue, NW., Washington, DC 20420, (202) 565-8374, FAX (202) 565-6950 or e-mail: denise.mclamb@mail.va.gov. Please refer to “OMB Control No. 2900-0208.”

Send comments and recommendations concerning any aspect of the information collection to VA's OMB Desk Officer, OMB Human Resources and Housing Branch, New Executive Office Building, Room 10235, Washington, DC 20503 (202) 395-7316. Please refer to “OMB Control No. 2900-0208” in any correspondence.

SUPPLEMENTARY INFORMATION: Titles:

a. Architect—Engineer Fee Proposal, VA Form 10-6298.

b. Daily Log (Contract Progress Report—Formal Contract), VA Form 10-6131.

c. Supplement Contract Progress Report, VA Form 10-61001a.

OMB Control Number: 2900-0208.

Type of Review: Extension of a currently approved collection.

Abstract:

a. An architect-engineering firm selected for negotiation of a contract with VA is required to submit a fee proposal based on the scope and complexity of the project. VA Form 10-6298 is used to obtain such proposal and supporting cost or pricing data from the contractor and subcontractor.

b. VA Forms 10-6131 and 10-6001a are used to record data necessary to assure the contractor provides sufficient labor and materials to accomplish the contract work. VA Form 10-6131 is used for national contracts and VA Form 10-6001a is used for smaller VA Medical Center station level projects and as an option on major projects before the interim schedule is submitted.

An agency may not conduct or sponsor, and a person is not required to respond to a collection of information unless it displays a currently valid OMB control number. The Federal Register Notice with a 60-day comment period soliciting comments on this collection of information was published on November 2, 2005, at page 66486.

Affected Public: Business or other for-profit.

Estimated Annual Burden: 5,341 hours.

a. VA Form 10-6298—1,000.

b. VA Form 10-6131—3,591.

c. VA Form 10-6001a—750.

Estimated Average Burden Per Respondent:

a. VA Form 10-6298—4 hours.

b. VA Form 10-6131—12 minutes.

c. VA Form 10-6001a—12 minutes.

Frequency of Response: On occasion.

Estimated Number of Respondents: 21,955.

a. VA Form 10-6298—250.

b. VA Form 10-6131—17,955.

c. VA Form 10-6001a—3,750.

Dated: January 23, 2006.
By direction of the Secretary.
Denise McLamb,
Program Analyst, Records Management Service.

[FR Doc. E6-1145 Filed 1-30-06; 8:45 am]

BILLING CODE 8320-01-P